DEPARTMENT OF COMMERCE

International Trade Administration

Export Trade Certificate of Review

ACTION: Notice of Application.

SUMMARY: The Office of Export Trading Company Affairs (“OETCA”), International Trade Administration, Department of Commerce, has received an application for an Export Trade Certificate of Review. This notice summarizes the conduct for which certification is sought and requests comments relevant to whether the Certificate should be issued.

FOR FURTHER INFORMATION CONTACT: Morton Schnabel, Director, Office of Export Trading Company Affairs, International Trade Administration, (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. A Certificate of Review protects the holder and the members identified in the Certificate from state and federal government antitrust actions and from private, treble damage antitrust actions for the export conduct specified in the Certificate and carried out in compliance with its terms and conditions. Section 302(b)(1) of the Act and 15 CFR 325.6(a) require the Secretary to publish a notice in the Federal Register identifying the applicant and summarizing its proposed export conduct.

Request for Public Comments

Interested parties may submit written comments relevant to the determination whether a Certificate should be issued. If the comments include any privileged or confidential business information, it must be clearly marked and a nonconfidential version of the comments (identified as such) should be included. Any comments not marked privileged or confidential business information will be deemed to be nonconfidential. An original and five copies, plus two copies of the nonconfidential version, should be submitted no later than 20 days after the date of this notice to: Office of Export Trading Company Affairs, International Trade Administration, Department of Commerce, Room 1104H, Washington, DC 20230, or transmitted by E-mail to oetca@ita.doc.gov. Information submitted by any person is exempt from disclosure under the Freedom of Information Act (5 U.S.C. 552). However, nonconfidential versions of the comments will be made available to the applicant if necessary for determining whether or not to issue the Certificate. Comments should refer to this application as “Export Trade Certificate of Review, application number 00-00002.” A summary of the application follows.

Summary of the Application

Applicant: CONSOL Energy Inc. (“CEI”), 1800 Washington Road, Pittsburgh, Pennsylvania 15241.

Contact: William G. Rieland, Vice President, Sales, Telephone: (412) 831-4032.

Application No.: 00-00002.

Date Deemed Submitted: April 7, 2000.

Member (in addition to applicant): AMCI Export Corporation, Latrobe, PA.

CEI seeks a Certificate to cover the following specific Export Trade, Export Markets, and Export Trade Activities and Methods of Operations.

Export Trade

Product

Bituminous coal.

Export Markets

The Export Markets include all parts of the world except the United States, (the fifty states of the United States, the District of Columbia, the Commonwealth of Puerto Rico, the Virgin Islands, American Samoa, Guam, the Commonwealth of the Northern Mariana Islands, and the Trust Territory of the Pacific Islands).

The proposed Export Trade Certificate of Review would extend antitrust protection to CEI to conduct the following export trade activities:

1. Gathering and sharing market intelligence about CEI's and member's mutual international competition and the outcome of purchasing decisions in foreign bituminous coal markets;

2. Allocating market opportunities between CEI and member. As sales opportunities arise in foreign countries CEI and member would jointly determine which company is best served to bid for the business. CEI and member would not compete against each other as foreign opportunities develop;

3. Jointly determining the appropriate price that the bidding member would apply to each foreign business opportunity;

4. Predetermine which of CEI's or member's coal production sources would be offered for sale on each foreign business opportunity;

5. Jointly developing logistical arrangements in order to move the bituminous coal to predetermined markets. These activities would include jointly arranging shipment schedules with railroads, barge carriers, vessel loading terminals, unloading terminals and ocean vessel owners; and

6. CEI and member would jointly negotiate vessel rates in order to improve the transportation economics of export bituminous coal shipments to their foreign customers.

Dated: April 14, 2000.
Morton Schnabel,
Director, Office of Export Trading Company Affairs.

[FR Doc. 00-9994 Filed 4-20-00; 8:45 am]

BILLING CODE 3510-DR-P